NUCLEAR REGULATORY COMMISSION

[Docket No. 50-286]

Entergy Nuclear Operations, Inc., Indian Point Nuclear Generating Unit No. 3; Notice of Withdrawal of Application For Amendment to Facility Operating License

The U.S. Nuclear Regulatory Commission (the Commission) has granted the request of Entergy Nuclear Operations, Inc. (the licensee) to withdraw its June 7, 2000, application for a proposed amendment to Facility Operating License No. DPR-64 for the Indian Point Nuclear Generating Unit No. 3, located in Westchester County, New York.

The proposed amendment would have revised the facility Technical Specifications pertaining to operations management qualifications.

The Commission had previously issued a Notice of Consideration of Issuance of Amendment published in the Federal Register on August 9, 2000 (65 FR 48756). However, by letter dated April 2, 2001, the licensee withdrew the proposed change.

For further details with respect to this action, see the application for amendment dated June 7, 2000, and the licensee's letter dated April 2, 2001, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 12th day of April 2001.
For the Nuclear Regulatory Commission.
Richard J. Laufer,
Project Manager, Section 1, Project Directorate I, Division of Licensing Project Management, Office of Nuclear Reactor Regulation.

[FR Doc. 01-9730 Filed 4-18-01; 8:45 am]

BILLING CODE 7590-01-P